NUCLEAR REGULATORY COMMISSION

Advisory Committee on the Medical Uses of Isotopes: Call for Nominations

AGENCY: Nuclear Regulatory Commission.

ACTION: Call for nominations.

SUMMARY: The U.S. Nuclear Regulatory Commission (NRC) is advertising for nominations for the position of diagnostic radiologist on the Advisory Committee on the Medical Uses of Isotopes (ACMUI). Nominees should currently be practicing diagnostic radiologists.

DATES: Nominations are due on or before November 13, 2023.

Nomination Process: Submit an electronic copy of resume or curriculum vitae, along with a cover letter and endorsement letter(s) from professional organizations to Lillian Armstead, Lillian.Armstead@nrc.gov. The cover letter should describe the nominee's current duties and responsibilities and express the nominee's interest in the position. Please ensure that resume or curriculum vitae includes the following information, if applicable: education; certification; professional association membership and committee membership activities; duties and responsibilities in current and previous clinical, research, and/or academic position(s).

FOR FURTHER INFORMATION CONTACT: Lillian Armstead, U.S. Nuclear Regulatory Commission, Division of Materials Safety, Security, State, and Tribal Programs; (301) 415-1650; Lillian.Armstead@nrc.gov.

SUPPLEMENTARY INFORMATION: The ACMUI diagnostic radiologist provides advice on issues associated with the regulation of applications of byproduct material for imaging, localization, and therapeutic purposes. This advice includes providing input on NRC proposed rules and guidance, providing recommendations on the training and experience requirements for physicians specializing in nuclear medicine and radiation therapy, identifying medical events associated with these uses, evaluating non-routine uses of byproduct material and emerging medical technologies, bringing key issues in the nuclear medicine and radiology community to the attention of NRC staff, as they relate to radiation safety and NRC medical-use policy.

ACMUI members are selected based on their educational background, certification(s), work experience, involvement and/or leadership in professional society activities, and other information obtained in letters or during the selection process. ACMUI members currently serve a four-year term and may be considered for reappointment to an additional term. The current membership is comprised of the following professionals: (a) nuclear medicine physician; (b) nuclear cardiologist; (c) diagnostic radiologist; (d) two radiation oncologists; (e) nuclear medicine physicist; (f) therapy medical physicist; (g) radiation safety officer; (f) nuclear pharmacist; (h) patients' rights advocate; (i) Food and Drug Administration representative; (j) Agreement State representative; and (k) health care administrator. For additional information about membership on the ACMUI, visit the ACMUI Membership web page, https://www.nrc.gov/aboutnrc/regulatory/advisory/acmui/membership.html.

Nominees must be U.S. citizens and be able to devote approximately 160 hours per year to Committee business. Members are expected to attend semi-annual meetings in Rockville, Maryland and to participate in teleconferences, as needed. Members who are not Federal employees are compensated for their service and are reimbursed for travel and correspondence expenses. Full-time Federal employees are reimbursed travel expenses only.

Security Background Check: The selected nominee will undergo a thorough security background check. Security paperwork may take the nominee several weeks to complete. Nominees will also be required to complete a financial disclosure statement to avoid conflicts of interest.

Dated at Rockville, Maryland, on the 3rd day of September, 2023.
For the U.S. Nuclear Regulatory Commission.
Russell E. Chazell,
Federal Advisory Committee Management Officer.

[FR Doc. 2023-19457 Filed 9-8-23; 8:45 am]

BILLING CODE 7590-01-P